DEPARTMENT OF TRANSPORTATION

Federal Aviation Administration

Registration of Small Unmanned Aircraft Systems Operated Under Exemptions Issued by the FAA

AGENCY: Federal Aviation Administration (FAA), DOT.

ACTION: Notice of Availability of Part 48 Registration System for FAA Exemption Holders.

SUMMARY: The FAA is issuing this notice to advise owners of small unmanned aircraft systems (sUAS) used for purposes other than as model aircraft under the authority of an exemption issued by the FAA that they may register their sUAS using the web-based aircraft registration system. It also provides specific information pertaining to any exemptions that include conditions relating to the registration of small UAS.

FOR FURTHER INFORMATION CONTACT: FAA UAS Integration Office, 800 Independence Ave. SW., Washington, DC 20591, telephone (877) 396-4636; email UAShelp@faa.gov.

SUPPLEMENTARY INFORMATION: The FAA has issued more than 4,500 exemptions authorizing operation of small UAS for non-model aircraft purposes. UAS operating under FAA exemption are statutorily obligated to be registered with the FAA by their owners. See 49 U.S.C. 44101. Consistent with that requirement, exemptions issued by the FAA provide that the UAS must be registered using the process established in 14 CFR part 47 and marked in accordance with 14 CFR part 45.¹ Part 47 was the sole means of registering an aircraft with the FAA at the time those exemptions were issued.

¹ Most exemptions issued after March 2, 2016 state that the aircraft may be registered under part 47 or part 48.

On December 16, 2015, the FAA and Department of Transportation issued an Interim Final Rule establishing registration and marking requirements for small unmanned aircraft (sUAS) that weigh more than .55 and less than 55 pounds. 80 FR 78594. This rule created a new web-based registration process for sUAS distinct from the FAA's existing registration process. These new requirements are codified in 14 CFR part 48. Eligible aircraft ² that are registered using the part 48 process meet the statutory requirement for aircraft registration. See 80 FR 78594-95. sUAS operated other than as model aircraft that weigh more than .55 pounds and less than 55 pounds, such as many of those operated under FAA exemption, have been able to register using the web-based process since March 31, 2016. 14 CFR 48.5(b).

² A Small UAS may be registered under part 48: [O]nly when the aircraft is not registered under the laws of a foreign country and is—(a) Owned by a U.S. citizen; (b) Owned by an individual citizen of a foreign country lawfully admitted for a permanent residence in the [U.S.]; (c) Owned by a corporation not a citizen of the [U.S.] when the corporation is organized and doing business under the laws of the [U.S] or a State within the [U.S.], and the aircraft is based and primarily used in the [U.S.]; or (d) An aircraft of—(1) The [U.S.] Government; or (2) A State, the District of Columbia, a territory or possession of the [U.S.], or a political subdivision of a State, territory, or possession.

14 CFR 48.20; 80 FR 78646.

The FAA finds it in the public interest to permit sUAS that currently hold FAA exemptions with the condition for registration under part 47 and who have not registered their sUAS to register in accordance with part 48 using the web-based registration process. Therefore, to ensure that sUAS operated under FAA exemption will be able to be registered under part 48, the FAA is amending all exemptions that contain the following condition:

All aircraft operated in accordance with this exemption must be identified by serial number, registered in accordance with 14 CFR part 47, and have identification (N-Number) markings in accordance with 14 CFR part 45, subpart C. Markings must be as large as practicable.

Effective April 21, 2016, those exemptions are amended to replace the above condition with the following:

All aircraft operated under this exemption must be registered in accordance with 14 CFR parts 47 or 48, and have identification markings in accordance with 14 CFR part 45, subpart C or part 48. For applicability and implementation dates of part 48 see 80 FR 78594 (Dec. 16, 2015).

The FAA is taking this action to enable small UAS operated under FAA exemptions to be registered under parts 47 or 48. Due to the significant number of exemptions affected, the FAA is amending these exemptions by publishing this notice. To the extent that an amended exemption is inconsistent with provisions in an exemption holder's Certificate of Waiver or Authorization (COA), the condition in the exemption supersedes the COA.

Exemption holders are advised to have a copy of this notice accessible during UAS operations.

People who have already submitted a completed application to register their sUAS under 14 CFR part 47 but prefer to register using the part 48 web-based system may request cancellation of that application by contacting the Registry. The request may be in any form but must include the following elements:

• The applicant's name and contact information from the original application.

• The make, model, and serial number as shown on the original application.

• The reason for cancellation (i.e., that the applicant has or will register the aircraft under 14 CFR 48).

The request must be signed by the applicant and may be submitted by the applicant or their agent. If the request is submitted by a representative of a company or corporation, that person must indicate his or her corporate or managerial title.

This same process may be used to cancel an existing registration issued under 14 CFR 47; however, the registration holder must indicate the N-number they propose to cancel.

The request for cancellation may only be transmitted to the Registry using the following methods:

• U.S. Postal Service regular or Priority mail: FAA Aircraft Registration Branch, AFS-750 P.O. Box 25504, Oklahoma City, OK 73125-0504.

• Overnight or Commercial Delivery Services, FAA Aircraft Registration Branch, AFS-750 6425 S Denning Rm 118, Oklahoma City, OK 73169-6937.

• By facsimile: (405) 954-3548.

This exemption terminates on April 1, 2018, unless sooner superseded or rescinded.

Issued in Washington, DC, on April 15, 2016.
John S. Duncan,
Director, Flight Standards Service.

[FR Doc. 2016-09199 Filed 4-20-16; 8:45 am]

BILLING CODE 4910-13-P